DEPARTMENT OF HOMELAND SECURITY

Federal Emergency Management Agency

44 CFR Part 67

[Docket ID FEMA-2008-0020; Internal Agency Docket No. FEMA-B-1032]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before June 23, 2009.

ADDRESSES: The corresponding preliminary Flood Insurance Rate Map (FIRM) for the proposed BFEs for each community are available for inspection at the community's map repository. The respective addresses are listed in the table below.

You may submit comments, identified by Docket No. FEMA-B-1032, to William R. Blanton, Jr., Chief, Engineering Management Branch, Mitigation Directorate, Federal Emergency Management Agency, 500 C Street SW., Washington, DC 20472, (202) 646-3151, or (e-mail) bill.blanton@dhs.gov.

FOR FURTHER INFORMATION CONTACT: William R. Blanton, Jr., Chief, Engineering Management Branch, Mitigation Directorate, Federal Emergency Management Agency, 500 C Street SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Rock Island County, Illinois, and Incorporated Areas
Mississippi River | From River Mile 449.4, approximately 0.65 miles upstream of the Mercer/Rock Island County Boundary and 1.7 miles downstream of the confluence with Copperas Creek | +554 | +555 | Unincorporated Areas of Rock Island County, City of East Moline, City of Moline, City of Rock Island, Village of Andalusia, Village of Cordova, Village of Hampton, Village of Milan, Village of Port Byron, Village of Rapids City.
| To the Whitside/Rock Island County Boundary (River Mile 512.25), approximately 0.6 miles upstream of the confluence with Meredosia Ditch | +587 | +588
Sylvan Slough | From the convergence with Mississippi River (River Mile 482.7), approximately 0.3 miles downstream of Lock and Dam No. 15 | +564 | +565 | City of Moline, City of Rock Island.
| To the divergence from the Mississippi River (RM 486.0), Cross Section I, approximately 0.17 miles upstream of Memorial (I-74) Bridge | +570 | +569
* National Geodetic Vertical Datum.
+ North American Vertical Datum.
# Depth in feet above ground.
‸Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of East Moline
Maps are available for inspection at East Moline City Hall, 915 16th Avenue, East Moline, IL 61244.
City of Moline
Maps are available for inspection at Moline City Hall, 619 16th Street, Moline, IL 61265.
City of Rock Island
Maps are available for inspection at Rock Island City Hall, 1528 3rd Street, Rock Island, IL 61201.
Unincorporated Areas of Rock Island County
Maps are available for inspection at Rock Island County Courthouse, 1504 3rd Avenue, Rock Island, IL 61201.
Village of Andalusia
Maps are available for inspection at Andalusia Village Hall, 221 First Street, Andalusia, IL 61232.
Village of Cordova
Maps are available for inspection at 906 Main Avenue, P.O. Box 6, Cordova, IL 61242.
Village of Hampton
Maps are available for inspection at 520 1st Avenue, P.O. Box 77, Hampton, IL 61256.
Village of Milan
Maps are available for inspection at Milan Village Hall, 405 East First Street, Milan, IL 61264.
Village of Port Byron
Maps are available for inspection at 120 South Main Street, P.O. Box 438, Port Byron, IL 61275.
Village of Rapids City
Maps are available for inspection at 1204 4th Avenue, P.O. Box 134, Rapids City, IL 61278.
Bee County, Texas, and Incorporated Areas
Salt Branch | Intersection of Unnamed Road and Salt Branch | +164 | +163 | Unincorporated Areas of Bee County.
| Approximately 249 Feet downstream of Emily Drive | +185 | +184
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Bee County
Maps are available for inspection at Bee County Courthouse, 105 West Corpus Christi Street, Beeville, TX 78102.
Wilson County, Texas, and Incorporated Areas
Cibolo Creek | Approximately 2000 feet downstream from CR 345 | None | +486 | Unincorporated Areas of Wilson County.
| Approximately 995 feet from CR “A” | None | +496
Lodi Branch | Approximately 373 Feet Upstream from 1st St | None | +393 | Unincorporated Areas of Wilson County.
| Approximately 1290 Feet Down stream from State Highway 97W | None | +407
Picosa Creek | Approximately 6036 Feet downstream from State highway 97W | None | +373 | Unincorporated Areas of Wilson County.
| Approximately 6700 Feet Downstream from Pleasanton Road | None | +378
San Antonio River | Approximately 1327 Feet downstream from the confluence of Pajarito Creek | None | +373 | Unincorporated Areas of Wilson County.
| At the confluence of Tributary 320 | None | +390
Stream 2 | At the Confluence of San Antonio River | None | +373 | Unincorporated Areas of Wilson County.
| Approximately 1220 Feet Downstream from State Highway 97W | None | +373
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Wilson County
Maps are available for inspection at 1430 3rd street, Floresville, TX 78114.
Dodge County, Wisconsin, and Incorporated Areas
Beaver Dam Lake | Entire shoreline | +873 | +874 | City of Beaver Dam, City of Fox Lake, Unincorporated Areas of Dodge County.
Beaver Dam River | 377 feet downstream of U.S. Highway 151 | None | +841 | City of Beaver Dam, Unincorporated Areas of Dodge County.
| Beaver Dam Lake Dam | +865 | +866
Fox Lake | Entire shoreline | +892 | +896 | City of Fox Lake, Unincorporated Areas of Dodge County.
Libby Creek | 0.25 miles downstream of Shamrock Road | None | +864 | Unincorporated Areas of Dodge County.
| .53 miles upstream of County Highway I | None | +884
Old Mill Creek | 0.51 miles downstream of County Highway P | None | +883 | City of Fox Lake, Unincorporated Areas of Dodge County.
| 878 feet upstream of State Highway 33 | +892 | +896
Park Creek | 0.25 miles downstream of Shaw Hill Road | None | +818 | City of Beaver Dam, Unincorporated Areas of Dodge County.
| Just upstream of North Crystal Lake Road | None | +895
Pratt Creek | 153 feet downstream of Sunset Road | None | +879 | Unincorporated Areas of Dodge County.
| .93 miles upstream of Fairfield Road | None | +903
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Beaver Dam
Maps are available for inspection at 205 South Lincoln Avenue, Beaver Dam, WI 53916.
City of Fox Lake
Maps are available for inspection at 248 East State Street, Fox Lake, WI 53933.
Unincorporated Areas of Dodge County
Maps are available for inspection at 127 East Oak Street, Juneau, WI 53039.

(Catalog of Federal Domestic Assistance No. 97.022, “Flood Insurance.”)

Dated: March 16, 2009.
Michael K. Buckley,
Acting Assistant Administrator, Mitigation Directorate, Department of Homeland Security, Federal Emergency Management Agency.

[FR Doc. E9-6581 Filed 3-24-09; 8:45 am]

BILLING CODE 9110-12-P